DEPARTMENT OF THE INTERIOR

Bureau of Land Management

[OR-958-1430-ET; HAG01-0001; OR-52315]

Proposed Withdrawal and Opportunity for Public Meeting; Oregon

AGENCY: Bureau of Land Management, Interior.

ACTION: Notice.

SUMMARY: The United States Department of Agriculture, Forest Service, filed an application to withdraw approximately 9,533 acres of National Forest System lands to protect recreational, scenic, cultural and traditional use values in addition to threatened, endangered, and sensitive flora and fauna natural resource values. This notice closes the lands for up to 2 years from location and entry under the mining laws, subject to valid existing rights. The lands will remain open to such forms of disposition as may by law be made of National Forest System lands. The lands have been and remain open to mineral leasing.

DATES: Comments should be received on or before January 4, 2001.

ADDRESSES: Comments should be sent to the Forest Supervisor, Rogue River National Forest, 333 W. 8th Street, Medford, Oregon 97501.

FOR FURTHER INFORMATION CONTACT: Bengt Hamner, Rogue River National Forest, 541-858-2304.

SUPPLEMENTARY INFORMATION: The Forest Service filed an application to withdraw the following described National Forest System lands from location and entry under the mining laws, subject to valid existing rights:

Willamette Meridian

Rogue River and Umpqua National Forests

T. 30 S., R. 2 E.,

Sec. 22, those portions of the SW¼NW¼, W½SW¼, and SE¼SW¼, lying westerly and southwesterly of the Rogue-Umpqua Divide Wilderness boundary;

Sec. 23, that portion of the SE¼ SW¼ lying westerly of the Abbott Creek Research Natural Area and southeasterly of the Rogue-Umpqua Divide Wilderness boundary;

Sec. 25, SW¼SW¼ SW¼;

Sec. 26, SW¼NE¼, SW¼ SE¼ NE¼, that portion of the NW ¼ lying southeasterly of the Rogue-Umpqua Divide Wilderness boundary and southwesterly of the Abbott Creek Research Natural Area, and S½;

Sec. 27, those portions of the E½ lying westerly, southwesterly and southeasterly of the Rogue-Umpqua Divide Wilderness boundary, and W½;

Sec. 28, S½NW¼ and S½;

Sec. 29, S½S½ SE¼;

Sec. 31, lots 6 and 7, NE¼ and N½ SE ¼;

Sec. 32 and 33;

Sec. 34, lots 1, 2, N½, and N½ S½;

Sec. 35, NW¼ NE¼, and NW¼.

T. 31 S., R. 1 E.,

Sec. 1, S½ of lot 5, lots 6, and 7, S½ SW¼ NE¼, SW¼, and W½SE ¼;

Sec. 2,lots 1 and 2, S½ NE¼, S½ S½ SW¼ and SE¼ ;

Sec. 3, S½SE¼;

Sec. 10, N½, E½SW¼, SE¼;

Sec. 11, N½, N½S½, SE¼SW¼, S½SE¼;

Sec. 12, lots 1 and 2, E½NE¼, NW¼;

Sec. 13, W½NW¼;

Sec. 14, NE¼, E½NW¼;

Sec. 15, N½NE¼, NE¼NW¼.

T. 31 S., R. 2 E.,

Sec. 3, W½ of lot 3, lot 4, SW¼NW¼, W½SE¼NW¼, W½E½SW¼, and W½SW¼;

Secs. 4 and 5;

Sec. 6, lots 1, 2, 6, and 7, S½NE¼, E½SW¼, and SE¼;

Sec. 7, lot 1, N½NE¼, SE¼NE¼, and NE¼NW¼;

Sec. 8, N½, E½NE¼SE¼, and NE¼SE¼SE¼;

Sec. 9, N½, N½SW¼, N½S½SW¼, W½NE¼SE¼, NW¼SE¼, N½SW¼SE¼, NW¼SE¼SE¼;

Sec. 10, W½NW¼.

The areas described aggregate approximately 9,533 acres in Jackson and Douglas County.

The application will be processed in accordance with the regulations set forth in 43 CFR 2300. All persons who wish to submit comments, suggestions, or objections in connection with the proposed withdrawal may present their views in writing, by the date specified above, to the Forest Supervisor, Rogue River National Forest.

Notice is hereby given that a public meeting relative to the proposed withdrawal will be held at a later date. A notice of time and place will be published in the Federal Register and a newspaper in the general vicinity of the lands proposed for withdrawal at least 30 days before the scheduled date of the meeting.

For a period of 2 years from the date of publication of this notice in the Federal Register, the lands will be segregated as specified above unless the application is denied or canceled or the withdrawal is approved prior to that date.

Dated: September 29, 2000.
Sherrie L. Reid,
Acting Chief, Branch of Realty and Records Services.

[FR Doc. 00-25555 Filed 10-4-00; 8:45 am]

BILLING CODE 4310-33-P